NUCLEAR REGULATORY COMMISSION

[Docket Nos. 30-5980 and 30-5982 and ASLBP No. 04-833-07-MLA]

Safety Light Corporation; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board is being established to preside over the following proceeding: Safety Light Corporation, Bloomsburg, Pennsylvania Site (Materials License Amendment).

This proceeding concerns a request for hearing submitted on August 30, 2004, by the Pennsylvania Department of Environmental Protection in response to a June 23, 2004 notice of opportunity for hearing regarding a proposed amendment to the 10 CFR Part 30 byproduct materials licenses of the Safety Light Corporation (SLC) that would (1) renew SLC's licenses to manufacture devices containing tritium at its Bloomsburg, Pennsylvania facility; and (2) authorize decommissioning of contaminated portions of that facility. The notice was published in the Federal Register on June 30, 2004 (69 FR 39515).

The Board is comprised of the following administrative judges:

E. Roy Hawkens, Chair, Atomic Safety and Licensing Board Panel, U.S. Nuclear Regulatory Commission, Washington, DC 20555-0001.

Ann M. Young, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents, and other materials shall be filed with the administrative judges in accordance with 10 CFR 2.302.

Issued at Rockville, Maryland, this 22nd day of September 2004.
G. Paul Bollwerk, III,
Chief Administrative Judge, Atomic Safety and Licensing Board Panel.

[FR Doc. 04-21654 Filed 9-27-04; 8:45 am]

BILLING CODE 7590-01-P